DEPARTMENT OF TRANSPORTATION

Office of the Secretary

[Docket No. DOT-OST-2012-0014]

Information Collection Activity; Request for Comments

AGENCY: Office of the Secretary of Transportation (OST) DOT.

ACTION: Notice of request for comments.

SUMMARY: In compliance with the Paperwork Reduction Act of 1995 (44 U.S.C. 3501 et seq.), this notice announces that the Information Collection Request (ICR) abstracted below will be forwarded to the Office of Management and Budget (OMB) for review and comments. The ICR describes the nature of the information collection and its expected burden. A Federal Register Notice with a 60-day comment period soliciting comments on the following information collection was published on Friday, November 4, 2011.

DATES: Comments must be submitted on or before March 5, 2012.

FOR FURTHER INFORMATION CONTACT: Leonardo San Roman, Office of Small and Disadvantaged Business Utilization, Office of the Secretary, W56-312, Department of Transportation, 1200 New Jersey Avenue SE., Washington, DC 20590, (202) 366-1930.

SUPPLEMENTARY INFORMATION:

Title: U.S. Department of Transportation Mentor-Protégé Pilot Program Evaluation Form; and U.S. Department of Transportation Mentor Protégé Pilot Program Annual Report.

Abstract: DOT will use the data captured in the Mentor-Protégé Pilot Program Evaluation Form to measure program achievement to determine whether the intention of the program to assist small businesses to compete and perform in DOT and federal procurement programs is achieved. DOT will use this data to determine whether program changes are required to increase participation of small businesses in DOT procurement programs.

Additionally, DOT will use the data captured in the Mentor Protégé Pilot Program Annual Report to measure protégé progress against the developmental plan contained in their Mentor Protégé agreement and to report the specific actions taken by the mentor to increase the participation of the protégé as a prime or subcontractor to DOT.

A Federal Register Notice with a 60-day comment period soliciting comments on the information collection was published on Friday, November 4, 2011. Only one (1) anonymous comment was received stating that more concrete language is needed to specify the protégé's ability to withdraw from the program voluntarily. Additionally, there does not appear to be any language stating whether a mentor can receive reimbursement for MP program costs; whether it is direct, or through credit against subcontracting goals. It appears that should be added as well.

Procedures for the Mentor or the Protégé to withdraw from the program voluntarily will be established by both parties in the Mentor-Protégé Agreement. The Mentor or the Protégé should provide written notice to OSDBU at least 30 days before withdrawing from the program.

As for the reimbursement part, the Program Office has determined there will be no incentives, such as reimbursements or credits toward subcontracting goals.

Type of Information Collection: Request for collection of a new information collection.

Affected Public: Prime contractors and small businesses participating in DOT's Mentor Protégé Pilot Program.

Estimated Annual Number of Respondents: Approximately 20.

Estimated Annual Number of Responses: 20.

Estimated Annual Total Burden Hours: 20.

Frequency of Collection: One time.

ADDRESSES: Send comments regarding the burden estimate, including suggestions for reducing the burden, to the Office of Management and Budget, Attention: Desk Officer for U.S. Department of Transportation, Office of the Secretary of Transportation, 725 17th Street NW., Washington, DC 20503, email: oira_submission@omb.eop.gov, fax: (202) 395-5806.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Issued in Washington, DC, on January 30, 2012.
Patricia Lawton,
Departmental PRA Program Manager, Office of the Secretary.

[FR Doc. 2012-2364 Filed 2-2-12; 8:45 am]

BILLING CODE 4910-9X-P